GENERAL SERVICES ADMINISTRATION

41 CFR Part 102-75

[FMR Amendment C-1 Corrections]

RIN 3090-AH45

Federal Management Regulation; Real Property Policies Update; Corrections

AGENCY: Office of Governmentwide Policy, General Services Administration (GSA).

ACTION: Correcting amendments.

SUMMARY: The General Services Administration is issuing amendments to FMR Amendment C-1, Real Property Policies Update, published in the Federal Register at 67 FR 76820, December 13, 2002, to correct the dollar thresholds associated with negotiated sales and explanatory statements to be consistent with existing statutes.

DATES: Effective Date: January 9, 2003.

FOR FURTHER INFORMATION CONTACT: Stanley C. Langfeld, Director, Real Property Policy Division, Office of Governmentwide Policy, General Services Administration, by phone at (202) 501-1737 or by e-mail at stanley.langfeld@gsa.gov.

Corrections

In the final rule document appearing in the issue of December 13, 2002, make the following corrections:

§ 102-75.880 [Corrected]

1. On page 76864, third column, under § 102-75.880, correct paragraph (a) by removing “$50,000” and adding “$15,000” in its place.

§ 102-75.885 [Corrected]

2. On page 76864, third column, under § 102-75.885, correct paragraph (b) by removing “$700,000” and adding “$100,000” in its place.

§ 102-75.905 [Corrected]

3. On page 76865, second column, under § 102-75.905, correct paragraphs (a) and (c) by removing “$700,000” and adding “$100,000” in its place.

Dated: January 2, 2003.
Stanley C. Langfeld,
Director, Real Property Policy Division, Office of Governmentwide Policy.

[FR Doc. 03-377 Filed 1-8-03; 8:45 am]

BILLING CODE 6820-23-P